NATIONAL SCIENCE FOUNDATION

Membership of National Science Foundation's Senior Executive Service Performance Review Board

AGENCY: National Science Foundation.

ACTION: Announcement of Membership of the National Science Foundation's Senior Executive Service Performance Review Board.

SUMMARY: This announcement of the membership of the National Science Foundation's Senior Executive Service Performance Review Board is made in compliance with 5 U.S.C. 4314(c)(4).

ADDRESSES: Comments should be addressed to Director, Division of Human Resource Management, National Science Foundation, Room 315, 4201 Wilson Boulevard, Arlington, VA 22230.

FOR FURTHER INFORMATION CONTACT: Dr. Judith S. Sunley at the above address or (703) 292-8180.

SUPPLEMENTARY INFORMATION: The membership of the National Science Foundation's Senior Executive Service Performance Review Board is as follows:

Cora B. Marrett, Deputy Director, Chairperson.

Richard A. Behnke, Head, Geospace Section.

Eugene F. Hubbard, Director, Office of Information and Resource Management and Chief Human Capital Officer.

Deborah F. Lockhart, Deputy Director, Division of Information and Intelligent Systems.

Martha A. Rubenstein, Director, Office of Budget, Finance and Award Management, and Chief Financial Officer.

Brian W. Stone, Director, Antarctic Infrastructure and Logistics Division.

Mark L. Weiss, Director, Division of Behavioral and Cognitive Sciences.

Judith S. Sunley, Director, Division of Human Resource Management and PRB Executive Secretary.

Dated: February 21, 2012.
Judith S. Sunley,
Director, Division of Human Resource Management.

[FR Doc. 2012-4640 Filed 2-28-12; 8:45 am]

BILLING CODE 7555-01-M